DEPARTMENT OF LABOR

Employment and Training Administration

[TA-W-65,320]

Auto Truck Transport, Portland, OR; Notice of Termination of Investigation

Pursuant to Section 221 of the Trade Act of 1974, as amended, an investigation was initiated on February 20, 2009 in response to a petition filed by the International Association of Machinists and Aerospace Workers, Local 24, on behalf of the workers of Auto Truck Transport, Portland, Oregon.

The petitioner requested that the petition be withdrawn. Consequently, the investigation has been terminated.

Signed at Washington, DC, this 27th day of March 2009.
Richard Church,
Certifying Officer, Division of Trade Adjustment Assistance.

[FR Doc. E9-8926 Filed 4-17-09; 8:45 am]

BILLING CODE 4510-FN-P